FEDERAL COMMUNICATIONS COMMISSION

47 CFR Part 22

[WT Docket No. 12-40; RM 11510; FCC 14-181]

Reform of Rules Governing the 800 MHz Cellular Service

AGENCY: Federal Communications Commission.

ACTION: Final rule; announcement of effective date.

SUMMARY: In this document, the Federal Communications Commission (Commission) announces that the Office of Management and Budget (OMB) has approved, for a period of three years, the information collection requirements associated with the Commission's Report and Order, WT Docket No. 12-40, RM 11510, FCC 14-181. This document is consistent with the Report and Order, which stated that the Commission would publish a document in the Federal Register announcing OMB approval and the effective date of the requirements.

DATES: 47 CFR 22.165(e), 22.948, and 22.953, published at 79 FR 72143, December 5, 2014, are effective on May 19, 2015.

FOR FURTHER INFORMATION CONTACT: For additional information, contact Cathy Williams, Cathy.Williams@fcc.gov, (202) 418-2918.

SUPPLEMENTARY INFORMATION: This document announces that, on March 31, 2015, April 9, 2015, and April 20, 2015, OMB approved the revised information collection requirements contained in the Commission's Report and Order, FCC 14-181, published at 79 FR 72143, December 5, 2014. The OMB Control Numbers are 3060-0508, 3060-0800, and 3060-1058. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Numbers, 3060-0508, 3060-0800, and 3060-1058 in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 31, 2015, April 9, 2015, and April 20, 2015, for the revised information collection requirements contained in the Commission's rules at 47 CFR 22.165(e), 22.948, and 22.953.

Under 5 CFR part 1320, an agency may not conduct or sponsor a collection of information unless it displays a current, valid OMB Control Number.

No person shall be subject to any penalty for failing to comply with a collection of information subject to the Paperwork Reduction Act that does not display a current, valid OMB Control Number. The OMB Control Numbers are 3060-0508, 3060-0800, and 3060-1058.

The foregoing notice is required by the Paperwork Reduction Act of 1995, Public Law 104-13, October 1, 1995, and 44 U.S.C. 3507.

The total annual reporting burdens and costs for the respondents are as follows:

OMB Control Number: 3060-0508.

OMB Approval Date: April 9, 2015.

OMB Expiration Date: April 30, 2018.

Title: Parts 1 and 22 Reporting and Recordkeeping Requirements.

Form Number: Not applicable.

Type of Review: Revision of a currently approved collection.

Respondents: Business or other for-profit entities, Individuals or households, and State, Local or Tribal Governments.

Number of Respondents and Responses: 15,713 respondents; 15,713 responses.

Estimated Time per Response: 15 minutes-10 hours.

Frequency of Response: Recordkeeping requirement; On occasion, quarterly, and semi-annual reporting requirements.

Obligation to Respond: Required to obtain or retain benefits. The statutory authority for this collection is contained in 47 U.S.C. 154, 222, 303, 309 and 332.

Total Annual Burden: 4,894 hours.

Annual Cost Burden: $19,445,250.

Privacy Act Impact Assessment: Yes.

Nature and Extent of Confidentiality: There is no need for confidentiality with this collection of information. The information to be collected will be made available for public inspection. Applicants may request materials or information submitted to the Commission be given confidential treatment under 47 CFR 0.459 of the Commission's rules.

Needs and Uses: The Federal Communications Commission (Commission) received approval for a revision of OMB Control No. 3060-0508 from the Office of Management and Budget (OMB). The purpose of this revision was to obtain OMB approval of rules applicable to Part 22 800 MHz Cellular Radiotelephone (“Cellular”) Service licensees and applicants, as adopted by the Commission in a Report and Order (Report and Order) on November 7, 2014 (WT Docket No. 12-40; RM No. 11510; FCC 14-181). By the Report and Order, the Commission eliminates or streamlines certain Cellular Service filing requirements, thereby reducing the information collection burdens for Cellular Service respondents.

The information collected is used to determine, on a case-by-case basis, whether or not to grant licenses authorizing construction and operation of wireless telecommunications facilities to common carriers. Further, this information is used to develop statistics about the demand for various wireless licenses and/or the licensing process itself, and occasionally for rule enforcement purposes.

OMB Control No.: 3060-0800.

OMB Approval Date: March 31, 2015.

OMB Expiration Date: March 31, 2018.

Title: FCC Application for Assignments of Authorization and Transfers of Control: Wireless Telecommunications Bureau and/or Public Safety and Homeland Security Bureau.

Form No.: FCC Form 603.

Respondents: Individuals or households; business or other for-profit entities; not-for-profit institutions; State, local or Tribal Government.

Number of Respondents and Responses: 2,447 respondents; 2,447 responses.

Estimated Time per Response: 0.5-1.75 hours.

Frequency of Response: Recordkeeping requirement; on occasion reporting requirement.

Obligation to Respond: Required to obtain or retain benefits. The statutory authority for this collection of information is contained in 47 U.S.C. 4(i), 154(i), 303(r) and 309(j).

Total Annual Burden: 2,759 hours.

Total Annual Cost: $366,975.

Nature and Extent of Confidentiality: In general there is no need for confidentiality. On a case by case basis, the Commission may be required to withhold from disclosure certain information about the location, character, or ownership of a historic property, including traditional religious sites.

Privacy Act Impact Assessment: Yes.

Needs and Uses: FCC Form 603 is a multi-purpose form used to apply for approval of assignment or transfer of control of licenses in the wireless services. The Federal Communications Commission (Commission) received approval for a revision of OMB Control No. 3060-0800 from the Office of Management and Budget (OMB). This revised information collection reflects changes in rules applicable to Part 22 800 MHz Cellular Radiotelephone (“Cellular”) Service licensees and applicants, as adopted by the Commission in a Report and Order (Report and Order) on November 7, 2014 (WT Docket No. 12-40; RM No. 11510; FCC 14-181). In addition to other rule revisions that do not affect this information collection, the Commission adopted a revised rule Section 22.948(a) to require the electronic submission of maps (in GIS format and PDF) when the Cellular applicant submits Form 603 to apply for Partitioning and Disaggregation. This requirement very slightly increases the total annual burden hours for this information collection. FCC Form 603 itself is not being revised.

The data collected on this form is used by the FCC to determine whether the public interest would be served by approval of the requested assignment or transfer. This form is also used to notify the Commission of consummated assignments and transfers of wireless and/or public safety licenses that have previously been consented to by the Commission or for which notification but not prior consent is required. This form is used by applicants/licensees in the Public Mobile Services, Personal Communications Services, General Wireless Communications Services, Private Land Mobile Radio Services, Broadcast Auxiliary Services, Broadband Radio Services, Educational Radio Services, Fixed Microwave Services, Maritime Services (excluding ships), and Aviation Services (excluding aircraft).

The purpose of this form is to obtain information sufficient to identify the parties to the proposed assignment or transfer, establish the parties' basic eligibility and qualifications, classify the filing, and determine the nature of the proposed service. Various technical schedules are required along with the main form applicable to Auctioned Services, Partitioning and Disaggregation, Undefined Geographical Area Partitioning, Notification of Consummation or Request for Extension of Time for Consummation.

OMB Control No.: 3060-1058.

OMB Approval Date: April 20, 2015.

OMB Expiration Date: April 30, 2018.

Title: FCC Application or Notification for Spectrum Leasing Arrangement: Wireless Telecommunications Bureau and/or Public Safety and Homeland Security Bureau.

Form No.: FCC Form 608.

Respondents: Business or other for-profit entities; not-for-profit institutions; State, Local or Tribal Government.

Number of Respondents and Responses: 991 respondents; 991 responses.

Estimated Time per Response: 1 hour.

Frequency of Response: Recordkeeping requirement and on occasion reporting requirement. Obligation to Respond: Required to obtain or retain benefits. The statutory authority for this collection of information is contained in 47 U.S.C. 151, 154(i), 154(j), 155, 158, 161, 301, 303(r), 308, 309, 310, 332 and 503.

Total Annual Burden: 996 hours.

Annual Cost Burden: $1,282,075.

Nature and Extent of Confidentiality: In general there is no need for confidentiality. On a case by case basis, the Commission may be required to withhold from disclosure certain information about the location, character, or ownership of a historic property, including traditional religious sites.

Privacy Act Impact Assessment: Not applicable.

Needs and Uses: FCC Form 608 is a multipurpose form. It is used to provide notification or request approval for any spectrum leasing arrangement (“Lease”) entered into between an existing licensee in certain wireless services and a spectrum lessee. This form also is required to notify or request approval for any spectrum subleasing arrangement (“Sublease”). The Federal Communications Commission (Commission) received approval for a revision of OMB Control No. 3060-1058 from the Office of Management and Budget (OMB). The revised information collection reflects changes in rules applicable to Part 22 800 MHz Cellular Radiotelephone (“Cellular”) Service licensees and applicants, as adopted by the Commission in a Report and Order (“R&O”) on November 7, 2014 (WT Docket No. 12-40; RM No. 11510; FCC 14-181). In addition to other rule revisions that do not affect this information collection, the Commission adopted a revised rule Section 22.948(d) to require the electronic submission of maps (in GIS format and PDF) when the Cellular Service applicant submits Form 608. The requirement very slightly increases the total annual burden hours for this information collection. FCC Form 608 itself is not being revised.

The data collected on the form is used by the FCC to determine whether the public interest would be served by the Lease or Sublease. The form is also used to provide notification for any Private Commons Arrangement entered into between a licensee, lessee, or sublessee and a class of third-party users (as defined in Section 1.9080 of the Commission's Rules).

Federal Communications Commission.
Marlene H. Dortch,
Secretary, Office of the Secretary, Office of the Managing Director.

[FR Doc. 2015-09830 Filed 4-27-15; 8:45 am]

BILLING CODE 6712-01-P